DEPARTMENT OF THE INTERIOR

Bureau of Land Management

[NMP010 L14300000.ET0000; NMNM 120333]

Public Land Order No. 7788; Withdrawal of National Forest System Land for the Red Cloud Campground; New Mexico

AGENCY: Bureau of Land Management, Interior.

ACTION: Public Land Order.

SUMMARY: This order withdraws 15 acres of National Forest System land from location and entry under the United States mining laws for a period of 20 years to protect the unique recreational and historical interpretive integrity of the Red Cloud Campground within the Cibola National Forest, and to protect a capital investment in the recreation area of approximately $750,000 in Federal funds.

DATES: Effective Date: February 15, 2012.

FOR FURTHER INFORMATION CONTACT: Doug William, Forest Supervisor, Cibola National Forest, 2113 Osuna Road NE., Suite A., Albuquerque, New Mexico 87113, 505-346-3869, or Angel Mayes, Roswell Field Office Manager, Bureau of Land Management, 2909 W. Second Street, Roswell, New Mexico 88201, 505-346-3869. Persons who use a telecommunications device for the deaf (TDD) may call the Federal Information Relay Service (FIRS) at 1-800-877-8339 to contact either of the above individuals during normal business hours. The FIRS is available 24 hours a day, 7 days a week, to leave a message or questions with either of the above individuals. You will receive a reply during normal business hours.

SUPPLEMENTARY INFORMATION: The United States Forest Service will manage the land to protect the capital investment expended to develop the Red Cloud Campground facility and the unique recreational and historical interpretive integrity of the Red Cloud Campground within the Cibola National Forest.

Order

By virtue of the authority vested in the Secretary of the Interior by Section 204 of the Federal Land Policy and Management Act of 1976, 43 U.S.C. 1714, it is ordered as follows:

1. Subject to valid existing rights, the following described National Forest System land is hereby withdrawn from location and entry under the United States mining laws, but not from leasing under the mineral leasing laws, to protect the unique recreational and historical interpretative integrity of the Red Cloud Campground: Cibola National Forest.

New Mexico Principal Meridian

T. 1 S., R. 12 E.,

Sec. 30, NW¼SE¼NE¼SW¼, SE¼SW¼NE¼SW¼, S½SE¼NE¼SW¼, and N½NE¼SE¼SW¼.

The area described contains 15 acres, more or less, in Lincoln County.

2. The withdrawal made by this order does not alter the applicability of the general land laws governing the use of National Forest System land under lease, license, or permit, or governing the disposal of their mineral or vegetative resources other than under the mining laws.

3. This withdrawal will expire 20 years from the effective date of this order, unless, as a result of a review conducted before the expiration date pursuant to Section 204(f) of the Federal Land Policy and Management Act of 1976, 43 U.S.C. 1714(f) the Secretary determines that the withdrawal shall be extended.

Authority: 43 CFR 2310.3-3(b)(1).

Dated: January 31, 2012.
Anne J. Castle,
Assistant Secretary—Water and Science.

[FR Doc. 2012-3526 Filed 2-14-12; 8:45 am]

BILLING CODE 3410-11-P